DEPARTMENT OF THE INTERIOR

Minerals Management Service

Agency Information Collection Activities: Proposed Collection; Comment Request

AGENCY: Minerals Management Service (MMS), Interior.

ACTION: Notice of extension of an information collection (1010-0086).

SUMMARY: To comply with the Paperwork Reduction Act of 1995 (PRA), MMS is inviting comments on a collection of information that we will submit to the Office of Management and Budget (OMB) for review and approval. The information collection request (ICR) concerns the paperwork requirements in the regulations under 30 CFR 250, Subpart P, “Sulphur Operations.”

DATE: Submit written comments by March 30, 2007.

ADDRESSES: You may submit comments by any of the following methods listed below. Please use the Information Collection Number 1010-0086 as an identifier in your message.

• E-mail MMS at rules.comments@mms.gov. Identify with Information Collection Number 1010-0086 in the subject line.

• Fax: 703-787-1093. Identify with Information Collection Number 1010-0086.

• Mail or hand-carry comments to the Department of the Interior; Minerals Management Service; Attention: Cheryl Blundon; 381 Elden Street, MS-4024; Herndon, Virginia 20170-4817. Please reference “Information Collection 1010-0086” in your comments.

FOR FURTHER INFORMATION CONTACT: Cheryl Blundon, Regulations and Standards Branch at (703) 787-1607. You may also contact Cheryl Blundon to obtain a copy, at no cost, of the regulations that require the subject collection of information.

SUPPLEMENTARY INFORMATION: Title: 30 CFR Part 250, Subpart P, Sulphur Operations.

OMB Control Number: 1010-0086.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to the Minerals Management Service (MMS) to ensure that operations in the OCS will meet statutory requirements; provide for safety and protection of the environment; and result in diligent exploration, development, and production of OCS leases. This information collection request addresses the regulations at 30 CFR Part 250, subpart P, Sulphur Operations, and the associated supplementary Notices to Lessees and Operators (NTLs) intended to provide clarification, description, or explanation of these regulations.

Regulations at 30 CFR part 250 implement these statutory requirements. MMS uses the information collected to ascertain the condition of drilling sites for the purpose of preventing hazards inherent in drilling and production operations and to evaluate the adequacy of equipment and/or procedures to be used during the conduct of drilling, well-completion, well-workover, and production operations. For example, MMS uses the information to:

• Ascertain that a discovered sulphur deposit can be classified as capable of production in paying quantities.

• Ensure accurate and complete measurement of production to determine the amount of sulphur royalty payments due the United States; and that the sale locations are secure, production has been measured accurately, and appropriate follow-up actions are initiated.

• Ensure that the drilling unit is fit for the intended purpose.

• Review expected oceanographic and meteorological conditions to ensure the integrity of the drilling unit (this information is submitted only if it is not otherwise available).

• Review hazard survey data to ensure that the lessee will not encounter geological conditions that present a hazard to operations.

• Ensure the adequacy and safety of firefighting plans.

• Ensure the adequacy of casing for anticipated conditions.

• Review log entries of crew meetings to verify that crew members are properly trained.

• Review drilling, well-completion, and well-workover diagrams and procedures to ensure the safety of the proposed drilling, well-completion, and well-workover operations.

• Review production operation procedures to ensure the safety of the proposed production operations.

• Monitor environmental data during operations in offshore areas where such data are not already available to provide a valuable source of information to evaluate the performance of drilling rigs under various weather and ocean conditions. This information is necessary to make reasonable determinations regarding safety of operations and environmental protection.

We will protect information from respondents considered proprietary under the Freedom of Information Act (5 U.S.C. 552) and its implementing regulations (43 CFR part 2) and under regulations at 30 CFR 250.197, “Data and information to be made available to the public.” No items of a sensitive nature are collected. Responses are mandatory.

Frequency: Varies by section, but information concerning drilling, well-completion, and well-workover operations and production is collected only once for each particular activity.

Estimated Number and Description of Respondents: Approximately 1 Federal OCS sulphur lessee.

Estimated Reporting and Recordkeeping “Hour” Burden: The currently approved annual reporting burden for this collection is 903 hours. The following chart details the individual components and respective hour burden estimates of this ICR. In calculating the burdens, we assumed that respondents perform certain requirements in the normal course of their activities. We consider these to be usual and customary and took that into account in estimating the burden.

Citation 30 CFR 250 | Reporting and recordkeeping requirement | Hour burden
1600 | Submit exploration or development and production plan | Burden in subpart B (1010-0151).
1603(a) | Request determination whether sulphur deposit can produce in paying quantities | 1
1604(f) | Check traveling-block safety device for proper operation weekly and after each drill-line slipping; enter results in log | ¼
1605; 1617; 1618; 1619(b); 1622 | Submit forms MMS-123 (Application for Permit to Drill), MMS-124 (Application for Permit to Modify), Form MMS-125 (End of Operations Report) | Burden in subpart D (1010-0141).
1605(b)(3) | Submit data and information on fitness of drilling unit | 4
1605(c) | Report oceanographic, meteorological, and drilling unit performance data upon request.* | 1
1605(d) | Submit results of additional surveys and soil borings upon request.* | 1
1605(e)(5) | Request copy of directional survey (by holder of adjoining lease).* | 1
1605(f) | Submit application for installation of fixed drilling platforms or structures | Burden in subpart I (1010-0149).
1607 | Request establishment, amendment, or cancellation of field rules for drilling, well-completion, or well-workover | 8
1608 | Submit well casing and cementing plan or modification | 5
1609(a) | Pressure test casing; record time, conditions of testing, and test results in log | 2
1610(d)(8) | Request exception to ram-type blowout preventer (BOP) system components rated working pressure | 1
1611(b); 1625(b) | Request exception to water-rated working pressure to test ram-type and annular BOPs and choke manifold | 1
1611(d)(3); 1625(d)(3) | Record in driller's report the date, time, and reason for postponing pressure testings | 10 minutes
1611(f); 1625(f) | Request exception to recording pressure conditions during BOP tests on pressure charts.* | 1
1611(f), (g); 1625(f), (g) | Conduct tests, actuations, inspections, maintenance, and crew drills of BOP systems at least weekly; record results in driller's report; retain records for 2 years following completion of drilling activity | 6
1612 | Request exception to requirements for well-control drills.* | 1
1613(e) | Pressure test diverter sealing element/valves weekly; actuate diverter sealing element/valves/ control system every 24 hours; test diverter line for flow every 24 hours; record test times and results in driller's report | 2
1615 | Request exception to blind-shear ram or pipe rams and inside BOP to secure wells | 1
1616(c) | Retain training records for lessee and drilling contractor personnel | Burden in subpart O (1010-0128).
1619(a) | Retain records for each well and all well operations for 2 years | 12
1619(c), (d), (e) | Submit copies of records, logs, reports, charts, etc., upon request | 1
1621 | Conduct safety meetings prior to well-completion or well-workover operations; record date and time | 1
1628(b), (d) | Submit application for design and installation features of sulphur production facilities and fuel gas safety system; certify new installation conforms to approved design | 4
1628(b), (d) | Maintain information on approved design and installation features for the life of the facility | 1
1629(b)(1)(ii), (iv) | Retain pressure-recording charts used to determine operating pressure ranges for 2 years | 12
1629(b)(3) | Request approval of firefighting systems; post firefighting system diagram | 4
1630(a)(5) | Notify MMS of pre-production test and inspection of safety system and commencement of production |
1630(b) | Maintain records for each safety device installed for 2 years | 1
1631 | Conduct safety device training prior to production operations and periodically thereafter; record date and time | 1
1633(b) | Submit application for method of production measurement | 2
1634(b) | Report evidence of mishandling of produced sulphur or tampering or falsifying any measurement of production | 1
1600 thru 1634 | General departure and alternative compliance requests not specifically covered elsewhere in subpart P | 2
* We included a minimal burden, but it has not been necessary to request these data and/or no submissions received for many years.

Estimated Reporting and Recordkeeping “Non-Hour Cost” Burden: We have identified no “non-hour cost” burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: MMS's practice is to make comments, including names and addresses of respondents, available for public review. If you wish your name and/or address to be withheld, you must state this prominently at the beginning of your comment. MMS will honor this request to the extent allowable by law; however, anonymous comments will not be considered. There may be circumstances in which we would withhold from the record a respondent's identity, as allowable by the law. If you wish us to withhold your name and/or address, you must state this prominently at the beginning of your comment. In addition, you must present a rationale for withholding this information. This rationale must demonstrate that disclosure “would constitute an unwarranted invasion of privacy.” Unsupported assertions will not meet this burden. In the absence of exceptional, documentable circumstances, this information will be released. All submissions from organizations or businesses, and from individuals identifying themselves as representatives or officials of organizations or businesses, will be made available for public inspection in their entirety.

MMS Information Collection Clearance Officer: Arlene Bajusz (202) 208-7744.

Dated: January 17, 2007.
E.P. Danenberger,
Chief, Office of Offshore Regulatory Programs.

[FR Doc. E7-1289 Filed 1-26-07; 8:45 am]

BILLING CODE 4310-MR-P